DEPARTMENT OF HEALTH AND HUMAN SERVICES

Centers for Disease Control and Prevention

Disease, Disability, and Injury Prevention and Control Special Emphasis Panel (SEP): Competitive Funds for National Programs To Improve the Health, Education, and Well-Being of Young People, Program Announcement Number 04010

In accordance with Section 10(a)(2) of the Federal Advisory Committee Act (Pub. L. 92-463), the Centers for Disease Control and Prevention (CDC) announces the following meeting:

Name: Disease, Disability, and Injury Prevention and Control Special Emphasis Panel (SEP): Competitive Funds for National Programs to Improve the Health, Education, and Well-Being of Young People, Program Announcement Number 04010.

Times and Dates: 10 a.m.-10:30 a.m., October 26, 2004 (Open). 10:30 a.m.-12:30 p.m., October 26, 2004 (Closed).

Place: Teleconference Number: 1.888.576.9873 pass code 13503 for the open portion of the meeting.

Status: Portions of the meeting will be closed to the public in accordance with provisions set forth in section 552b(c) (4) and (6), title 5 U.S.C., and the Determination of the Director, Management Analysis and Services Office, CDC, pursuant to Public Law 92-463.

Matters to be Discussed: The meeting will include the review, discussion, and evaluation of applications received in response to Program Announcement Number 04010.

Contact Person for More Information: Nosrat Irannejad, MPH, Lead Education Program Specialist, National Center for Chronic Disease Prevention and Health Promotion, 4770 Buford Highway, MS-K31, Atlanta, GA 30341, Telephone 770.488.6124.

The Director, Management Analysis and Services Office, has been delegated the authority to sign Federal Register notices pertaining to announcements of meetings and other committee management activities, for both CDC and the Agency for Toxic Substances and Disease Registry.

Dated: October 1, 2004.
Alvin Hall,
Director, Management Analysis and Services Office, Centers for Disease Control and Prevention.

[FR Doc. 04-22712 Filed 10-7-04; 8:45 am]

BILLING CODE 4163-18-P